DEPARTMENT OF LABOR

Employment and Training Administration

[TA-W-40,417]

NTN-Bower Corporation, Hamilton, AL; Notice of Negative Determination on Remand

The United States Court of International Trade (USCIT) granted the Secretary of Labor's motion for a voluntary remand for further investigation in Former Employees of NTN-Bower Corp. v. United States Secretary of Labor, No. 02-00315.

The Department's initial negative determination of eligibility to apply for trade adjustment assistance (TAA) for the workers and former workers of NTN-Bower Corporation, located in Hamilton, Alabama was issued on March 27, 2002, and published in the Federal Register on April 5, 2002 (67 FR 16441). The denial was based on the fact that workers of the subject firm did not meet criterion (3) as indicated in the initial investigation. The company did not import tapered roller bearings nor did customers import tapered roller bearings during 2000 or 2001.

On voluntary remand, the Department conducted a further survey of a major customer regarding their purchases of tapered roller bearings (TRB) during 1999, 2000 and 2001. The response from the major customer was not acquired during the initial survey.

The results of the survey show that the major customer did not import tapered roller bearings during the relevant period.

Conclusion

After careful consideration of the results of the remand investigation, I affirm the original notice of negative determination of eligibility to apply for trade adjustment assistance for workers and former workers of NTN-Bower Corporation, Hamilton, Alabama.

Signed in Washington, DC this 3rd day of October, 2002.
Edward A. Tomchick,
Director, Division of Trade Adjustment Assistance.

[FR Doc. 02-26740 Filed 10-21-02; 8:45 am]

BILLING CODE 4510-30-P